DEPARTMENT OF DEFENSE

Department of the Army

Army Science Board; Notice of Open Meeting

In accordance with section 10(a)(2) of the Federal Advisory Committee Act (Pub. L. 92-463), announcement is made of the following Committee Meeting.

Name of Committee: Army Science Board (ASB).

Date(s) of Meeting: 24 and 25 February 2005.

Time(s) of Meeting: 0800-1700, 24 February 2005; 0800-1200, 25 February 2005.

Place: Institute for Defense Analysis.

1. Agenda: The Army Science Board FY05 Summer Study on “Modularity” will be holding a meeting on 24 and 25 February 2005. The meeting will be held at the Institute for Defense Analysis (IDA). The meeting will begin at 0800 hrs on the 24th and will end at approximately 1200 hrs on the 25th. For further information, please contact Melanie McAnney at either Melanie.mcanney@hqda.army.mil or (703) 604-7479. Thank you.

Wayne Joyner,
Program Support Specialist, Army Science Board.

[FR Doc. 05-3790 Filed 2-25-05; 8:45 am]

BILLING CODE 3710-08-M